DEPARTMENT OF TRANSPORTATION

Federal Highway Administration

Notice To Rescind the Notice of Intent To Develop the Environmental Impact Statement: Bronx County, NY

AGENCY: Federal Highway Administration (FHWA), United States Department of Transportation (DOT).

ACTION: Notice to rescind the notice of intent.

SUMMARY: The FHWA is issuing this notice to advise the public that the Notice of Intent (NOI) to prepare an Environmental Impact Statement (EIS) for a proposed construction project for the Bruckner-Sheridan Expressway Interchange and for Improved Access to the Hunts Point Peninsula in Bronx County, New York is being rescinded. In Vol. 68, No. 34/February 20, 2003/Notices, page 8327-8328 [03-4029], the Federal Highway Administration (FHWA) issued a NOI to advise the public that an EIS would be prepared for a proposed construction project for the Bruckner-Sheridan Expressway Interchange and for Improved Access to the Hunts Point Peninsula, in Bronx County, New York.

FOR FURTHER INFORMATION CONTACT: Jonathan D. McDade, Division Administrator, Federal Highway Administration, New York Division, Leo W. O'Brien Federal Building, 11A Clinton Avenue, Suite 719, Albany, New York 12207, Telephone: (518) 431-4127; or

Mr. Joseph T. Brown, P.E., Acting Regional Director, New York State Department of Transportation, Hunters Point Plaza, 47-40 21st Street, Long Island City, New York 11101, Telephone: (718) 482-4526.

SUPPLEMENTARY INFORMATION: The FHWA, in cooperation with the New York State Department of Transportation (NYSDOT) intended to prepare an EIS on the proposal to improve safety and traffic flow at the Bruckner Expressway (I-278) at its interchange with the Arthur V. Sheridan Expressway (I-895) as well as to improve access in and out of the Hunts Points Peninsula from the Expressway System.

The purpose of the project was to improve safety and traffic flow at the Bruckner Expressway (I-278) at its interchange with the Arthur V. Sheridan Expressway (I-895) and to reduce traffic, especially trucks from the local streets and to enhance commerce by providing a direct access from the expressway system to the Hunts Point Peninsula.

An Expanded Project Proposal (EPP) was issued in 2002 and the project was programmed with a construction cost estimate of $205 million. The Environmental Impact Statement for this project (X730.39) started in 2003. NEPA Scoping, which was completed in September 2007, included four conceptual build alternatives, in addition to the No-build alternative. In year 2008, after the geometric design for the project's alternatives were completed, two Design Refinements to the four build alternatives were envisioned, and with consensus from the stakeholders, were advanced as follows:

Alternative 1E: Reconstruct the Bruckner Expressway at existing elevation over the Bronx River, remove the Sheridan Expressway and construct full ramp connections from Bruckner Expressway to Hunts Point at Oak Point. Alternative 2E: Reconstruct the Bruckner Expressway at existing elevation over the Bronx River, reconstruct the ramps between the Bruckner and Sheridan Expressways, and construct full ramp connections from the Bruckner Expressway to Hunts Point at Oak Point.

It is proposed to terminate the EIS for the following reason:

The Bruckner viaduct, from the RFK Bridge to the Sheridan Expressway, is in very poor condition. Several sections of the deck are very poorly rated; bridge bearings and other members need repair. The conditions of the viaduct require NYSDOT Region 11 to reprioritize the available funding to address more critical work in the corridor. The Region therefore will advance a state of good repair that will address the deck deterioration, steel members and joints repair.

The state of good repair of the Bruckner Expressway remains an operational and safety priority for NYSDOT. Improvements at this location can be accomplished without significant environmental impacts. To address repairs at the Bruckner Expressway, reduced scope projects will be progressed.

Issued on June 5, 2012.
Chris Gatchell,
Director, Office of Engineering, Federal Highway Administration.

[FR Doc. 2012-14233 Filed 6-11-12; 8:45 am]

BILLING CODE 4910-22-P